NATIONAL ARCHIVES AND RECORDS ADMINISTRATION

Information Security Oversight Office; National Industrial Security Program Policy Advisory Committee: Notice of Meeting

In accordance with the Federal Advisory Committee Act (5 U.S.C. App.2) and implementing regulation 41 CFR 101.6, announcement is made for the following committee meeting:

Name of Committee: National Industrial Security Program Policy Advisory Committee (NISPPAC).

Date of Meeting: May 21, 2002.

Time of Meeting: 2 p.m. to 4 p.m.

Place of Meeting: Davis-Monthan Air Force Base, 5555 E. Ironwood Street, Tucson, Arizona 85707.

Purpose: To discuss National Industrial Security Program policy matters. This meeting will be open to the public. However, due to space limitations and access procedures, the names and telephone number of individuals planning to attend must be submitted to the Information Security Oversight Office (ISOO) no later than April 29, 2002. Written statements from the public will be accepted in lieu of an opportunity for comment.

FOR FURTHER INFORMATION CONTACT: Laura L.S. Kimberly, Acting Director, National Archives Building, 700 Pennsylvania Avenue, NW., Room 100, Washington, DC 20408, telephone (202) 219-5250.

Dated: April 26, 2002.
Mary Ann Hadyka,
Committee Management Officer.

[FR Doc. 02-10760 Filed 4-30-02; 8:45 am]

BILLING CODE 7515-01-P